DEPARTMENT OF COMMERCE

Foreign-Trade Zones Board

[B-95-2013]

Authorization of Production Activity; Foreign-Trade Subzone 93G; Revlon Consumer Products Corporation (Cosmetics and Personal Care Products); Oxford, North Carolina

On October 17, 2013, Revlon Consumer Products Corporation (Revlon), operator of Subzone 93G, submitted a notification of proposed production activity to the FTZ Board for its facility in Oxford, North Carolina.

The notification was processed in accordance with the regulations of the FTZ Board (15 CFR part 400), including notice in the Federal Register inviting public comment (78 FR 68027, 11/13/2013). The FTZ Board determined that no further review of the activity was warranted. On February 14, 2014, Revlon was informed that the production activity described in the notification was authorized, subject to the FTZ Act and the FTZ Board's regulations, including Section 400.14.

Dated: April 11, 2014.
Andrew McGilvray,
Executive Secretary.

[FR Doc. 2014-08803 Filed 4-16-14; 8:45 am]

BILLING CODE 3510-DS-P